DEPARTMENT OF HEALTH AND HUMAN SERVICES

Administration for Children and Families

Statement of Organization, Functions and Delegations of Authority

This notice amends Part K of the Statement of Organization, Functions and Delegations of Authority of the Department of Health and Human Services (HHS), Administration for Children and Families (ACF), as follows: Chapter KA, Office of the Assistant Secretary for Children and Families (OAS) as last amended October 16, 2001 (66 FR 52627) and Chapter KN, Office of Public Affairs (OPA) as last amended January 2, 1998 (63 FR 81-87). This notice announces the transfer of the Freedom of Information Act (FOIA) functions from the Office of the Executive Secretariat and places them in the Division of Public Information, Office of Public Affairs.

These Chapters are amended as follows:

I. Chapter KA, Office of the Assistant Secretary for Children and Families

A. Delete KA.20 Functions, Paragraph C in its entirety and replace with the following:

C. The Executive Secretariat (ExecSec) ensures that issues requiring the attention of the Assistant Secretary, Deputy Assistant Secretaries and/or executive staff are addressed on a timely and coordinated basis and facilitates decisions on matters requiring immediate action including White House, Congressional and Secretarial assignments. ExecSec serves as the ACF liaison with the HHS Executive Secretariat. It receives, assesses and controls incoming correspondence and assignments to the appropriate ACF component(s) for response and action and provides assistance and advice to ACF staff on the development of responses to correspondence. ExecSec provides assistance to ACF staff on the use of the controlled correspondence system. ExecSec coordinates and/or prepares congressional correspondence, tracks development of periodic reports and facilitates Departmental clearances.

II. Chapter KN, Office of Public Affairs

A. Delete KN.00. Mission in its entirety and replace with the following:

KN.00 Mission. The Office of Public Affairs (OPA) develops, directs and coordinates public affairs and communications services for ACF. OPA serves as liaison with the Office of the Secretary, Office of Public Affairs in processing the Freedom of Information Act inquiries for ACF and coordinates hot line calls received by the Office of Inspector General and the Government Accountability Office relating to ACF operations and personnel. OPA provides leadership, direction and oversight in promoting ACF's public affairs policies, programs and initiatives. OPA also provides printing and distribution services for ACF.

B. Delete KN.20 Functions paragraph B, in its entirety and replace with the following:

B. The Division of Public Information (the Division) develops and implements public affairs strategies to achieve ACF program objectives in coordination with other ACF components. The Division coordinates news media relations strategy; responds to all media inquiries concerning ACF programs and related issues; develops fact sheets, news releases, feature articles for magazines and other publications on ACF programs and initiatives; and manages preparation and clearance of speeches and official statements on ACF programs. The Division coordinates regional public affairs policies and public affairs activities pertaining to ACF programs and initiatives. The Division Director serves as liaison to the Office of the Secretary, Office of Public Affairs in processing the Freedom of Information Act inquiries and coordinates hot line calls received by the Office of Inspector General and the Government Accountability Office relating to ACF operations and personnel.

Dated: December 14, 2004.
Wade F. Horn,
Assistant Secretary for Children and Families.

[FR Doc. 04-28052 Filed 12-22-04; 8:45 am]

BILLING CODE 4184-01-M